DEPARTMENT OF ENERGY

Federal Energy Regulatory Commission

Combined Notice of Filings #1

Take notice that the Commission received the following electric rate filings:

Docket Numbers: ER10-1852-013; ER10-1971-026; ER11-4462-017.

Applicants: Florida Power & Light Company, NextEra Energy Power Marketing, LLC, NEPM II, LLC.

Description: Notice of Change in Status Update of the NextEra Companies, et al.

Filed Date: 5/11/16.

Accession Number: 20160511-5305.

Comments Due: 5 p.m. ET 6/1/16.

Docket Numbers: ER16-474-002.

Applicants: Central Antelope Dry Ranch C LLC.

Description: Compliance filing: Central Antelope Dry Ranch C LLC MBR Tariff to be effective 2/1/2016.

Filed Date: 5/12/16.

Accession Number: 20160512-5002.

Comments Due: 5 p.m. ET 6/2/16.

Docket Numbers: ER16-1670-000.

Applicants: PacifiCorp.

Description: Section 205(d) Rate Filing: Idaho Power Construct Agmt Goshen-Jefferson Line Rebuild to be effective 7/11/2016.

Filed Date: 5/11/16.

Accession Number: 20160511-5246.

Comments Due: 5 p.m. ET 6/1/16.

Docket Numbers: ER16-1671-000.

Applicants: Florida Power & Light Company.

Description: Section 205(d) Rate Filing: FPL's Open Access Transmission Tariff Clean-Up to be effective 5/12/2016.

Filed Date: 5/11/16.

Accession Number: 20160511-5262.

Comments Due: 5 p.m. ET 6/1/16.

Docket Numbers: ER16-1672-000.

Applicants: Chaves County Solar, LLC.

Description: Baseline eTariff Filing: Chaves County Solar, LLC Application for Market-Based Rates to be effective 9/1/2016.

Filed Date: 5/11/16.

Accession Number: 20160511-5263.

Comments Due: 5 p.m. ET 6/1/16.

Docket Numbers: ER16-1673-000.

Applicants: Glacial Energy of New England, Inc.

Description: Notice of cancellation of market based tariff of Glacial Energy of New England, Inc.

Filed Date: 5/11/16.

Accession Number: 20160511-5264.

Comments Due: 5 p.m. ET 6/1/16.

Docket Numbers: ER16-1674-000.

Applicants: Glacial Energy of New Jersey, Inc.

Description: Notice of cancellation of market based tariff of Glacial Energy of New Jersey, Inc.

Filed Date: 5/11/16.

Accession Number: 20160511-5265.

Comments Due: 5 p.m. ET 6/1/16.

Docket Numbers: ER16-1675-000.

Applicants: Glacial Energy of Illinois, Inc.

Description: Notice of cancellation of market based tariff of Glacial Energy of Illinois, Inc.

Filed Date: 5/11/16.

Accession Number: 20160511-5266.

Comments Due: 5 p.m. ET 6/1/16.

Docket Numbers: ER16-1676-000.

Applicants: Southwest Power Pool, Inc.

Description: Section 205(d) Rate Filing: 3180 Basin Electric and Montana-Dakota Utilities Att AO to be effective 6/1/2016.

Filed Date: 5/12/16.

Accession Number: 20160512-5044.

Comments Due: 5 p.m. ET 6/2/16.

Docket Numbers: ER16-1677-000.

Applicants: Enterprise Solar, LLC.

Description: Compliance filing: Compliance Filing—Amendment to MBR Limitations and Exemptions to be effective 7/11/2016.

Filed Date: 5/12/16.

Accession Number: 20160512-5097.

Comments Due: 5 p.m. ET 6/2/16.

Docket Numbers: ER16-1678-000.

Applicants: PJM Interconnection, L.L.C.

Description: Section 205(d) Rate Filing: Service Agreement No. 4447, Queue Position AB1-025 to be effective 4/12/2016.

Filed Date: 5/12/16.

Accession Number: 20160512-5107.

Comments Due: 5 p.m. ET 6/2/16.

Docket Numbers: ER16-1679-000.

Applicants: PJM Interconnection, L.L.C.

Description: Section 205(d) Rate Filing: Service Agreement Nos. 4448, 4449, 4450, Queue Nos. AB1-021, AB1-063, AB1-139 to be effective 4/12/2016.

Filed Date: 5/12/16.

Accession Number: 20160512-5109.

Comments Due: 5 p.m. ET 6/2/16.

Docket Numbers: ER16-1680-000.

Applicants: Escalante Solar I, LLC.

Description: Compliance filing: Compliance Filing—Amendment to MBR Tariff Limits. and Exemptions to be effective 7/11/2016.

Filed Date: 5/12/16.

Accession Number: 20160512-5140.

Comments Due: 5 p.m. ET 6/2/16.

Docket Numbers: ER16-1681-000.

Applicants: PacifiCorp.

Description: Tariff Cancellation: Termination of BPA Agmt for Pilot Butte Sub Mtring & Trnsfr CEC to BPA BAA to be effective 7/24/2016.

Filed Date: 5/12/16.

Accession Number: 20160512-5164.

Comments Due: 5 p.m. ET 6/2/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 12, 2016.
Nathaniel J. Davis, Sr.,
Deputy Secretary.

[FR Doc. 2016-11710 Filed 5-17-16; 8:45 am]

BILLING CODE 6717-01-P